DEPARTMENT OF LABOR

Office of the Secretary

Submission for OMB Emergency Review; Comment Request

May 13, 2002.

The Department of Labor has submitted the following information collection request (ICR), utilizing emergency review procedures, to the Office of Management and Budget (OMB) for review and clearance in accordance with the Paperwork Reduction Act of 1995 (Pub. L. 104-13, 44 U.S.C. Chapter 35). OMB approval has been requested by May 17, 2002. A copy of this ICR, with applicable supporting documentation, may be obtained by contacting the Department of Labor. To obtain a copy of this ICR, contact Darrin King on 202-693-4129 or email: king-darrin@dol.gov.

Comments and questions about the ICR listed below should be submitted to the Office of Information and Regulatory Affairs, Attn: OMB Desk Officer for the Office of Disability Employment Policy, Office of Management and Budget, Room 10235, Washington, DC 20503 (202-395-7316), and received 5 days prior to the requested OMB approval date.

The Office of Management and Budget is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarify of the information to be collected; and

• Minimize the burden of the collection of information on those who are to respond, including through the use of appropriate automated, electronic, mechanical, or other technological collection techniques or other forms of information technology, e.g., permitting electronic submissions of responses.

Agency: Office of Disability Employment Policy (ODEP).

Title: Solicitation of Nominations for the Department of Labor's Inaugural New Freedom Award.

OMB Number: 1230-ONEW.

Frequency: Annually.

Affected Public: Individuals or households; businesses or other for profit organizations; not-for-profit institutions: Federal Government.

Number of Respondents: 100.

Number of Annual Responses: 100.

Estimated Time Per Respondent: 10 hours.

Total Burden Hours: 1,000 hours.

Total Burden Cost (capital/startup): $0.

Total Burden Cost (operating/maintaining): $0.

Description: The information will be used by the Department of Labor to determine eligibility for its Inaugural New Freedom Initiative Award. This award will be presented annually by the Secretary of Labor to honor individuals, corporations, and non-profit organizations which have been exemplary in furthering the employment related objectives of President George W. Bush's New Freedom Initiative. The award requirements are to be published in the Federal Register in mid May with a closing date for submitting applications 30 days. The recipients of the award are to be notified in late August or early September with an award ceremony to follow at the White House sometime in October.

Ira L. Mills,
Departmental Clearance Officer.

[FR Doc. 02-12378 Filed 5-16-02; 8:45 am]

BILLING CODE 4510-CX-M